DEPARTMENT OF DEFENSE

Department of the Air Force

32 CFR Part 841

[No. USAF-2007-0010]

Licensing Government-Owned Inventions in the Custody of the Department of the Air Force

AGENCY: Department of the Air Force, DoD.

ACTION: Final rule.

SUMMARY: This document removes the Department of the Air Force rule concerning the licensing of Government-owned inventions in the custody of the Air Force. The part has served the purpose for which it was intended for the Code of Federal Regulations, and is no longer necessary.

DATES: Effective Date: July 2, 2007.

FOR FURTHER INFORMATION CONTACT: Mr. David Dzara at (703) 588-5092, David.Dzara@pentagon.af.mil.

SUPPLEMENTARY INFORMATION: 32 CFR Part 841,“Licensing Government-Owned Inventions in the Custody of the Department of the Air Force,” is directed towards Air Force patent licensing. This regulation is no longer needed given the government-wide patent licensing regulation found at 37 CFR Part 404 and is also obsolete.

List of Subjects in 32 CFR Part 841

Inventions and patents.

PART 841—[REMOVED]

Accordingly, by the authority of 5 U.S.C. 301 and 10 U.S.C. 8013, 32 CFR part 841 is removed.

Bao-Anh Trinh,
Air Force Federal Register Liaison Officer, Department of the Air Force.

[FR Doc. E7-12721 Filed 6-29-07; 8:45 am]

BILLING CODE 5001-05-P